DEPARTMENT OF ENERGY

Federal Energy Regulatory Commission

[Docket No. IC04-523-001, FERC-523]

Commission Information Collection Activities, Proposed Collection; Comment Request; Submitted for OMB Review

October 28, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of August 20, 2004 (69 FR 51651-52), and has made this indication in its submission to OMB.

DATES: Comments on the collection of information are due by November 29, 2004.

ADDRESSES: Address comments on the information collection to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-523-001.

Documents filed electronically via the Internet must be prepared in, MS Word, Portable Document Format, Word Perfect or ASCII format. To file the document, access the Commission's Web site at http://www.ferc.gov and click on “Make an e-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-523 “Applications for Authorization of Issuance of Securities.”

2. Sponsor: Federal Energy Regulatory Commission.

3. Control No.: 1902-0043.

The Commission is now requesting that OMB approve with a three-year extension of the expiration date, with no changes to the existing collection. The information filed with the Commission is mandatory.

4. Necessity of the Collection of Information: Submission of the information is necessary to enable the Commission to carry out its responsibilities in implementing the statutory provisions of sections 19, 20 and 204 of the Federal Power Act (FPA) (16 U.S.C. 792-828c). Under the FPA, a public utility or licensee must obtain Commission authorization for the issuance of securities or for the assumption of liabilities as a guarantor, indorser, or surety or otherwise in respect to any other security of another person, unless and until they have submitted an application to the Commission. After review and approval, the Commission will in turn issue an order authorizing the assumption of the liability or the issuance of securities. The information filed in applications to the Commission is used to determine the Commission's acceptance and/or rejection for granting authorizations for either the issuance of securities or the assumption of obligations or liabilities to licensees and public utilities.

The Commission implements these filing requirements in the Code of Federal Regulations (CFR) under 18 CFR parts 20, 34, 131.43 and 131.50.

5. Respondent Description: The respondent universe currently comprises 60 companies (on average per year) subject to the Commission's jurisdiction.

6. Estimated Burden: 6,600 total hours, 60 respondents (average per year), 1 response(s) per respondent, and 110 hours per response (average).

7. Estimated Cost Burden to Respondents: 6,600 hours / 2080 hours per years × $107,185 per year = $340,106.

Statutory Authority: Sections 19, 20 and 204 of the Federal Power Act (FPA) (16 U.S.C. 792-828c).

Magalie R. Salas,
Secretary.

[FR Doc. 04-24595 Filed 11-3-04; 8:45 am]

BILLING CODE 6717-01-P